NUCLEAR REGULATORY COMMISSION

[Docket No. 50-333; NRC-2010-0095]

James A. Fitzpatrick Nuclear Power Plant Environmental Assessment and Finding of No Significant Impact

The U.S. Nuclear Regulatory Commission (NRC) is considering issuance of an exemption from the requirements of Part 50 of Title 10 of the Code of Federal Regulations (10 CFR), Appendix R, “Fire Protection Program for Nuclear Power Facilities Operating Prior to January 1, 1979,” issued to Entergy Nuclear Operations, Inc. (the licensee), for the operation of the James A. FitzPatrick Nuclear Power Plant (JAFNPP) located in Oswego County, NY. Therefore, as required by 10 CFR 51.21, the NRC is issuing this environmental assessment and finding of no significant impact.

Environmental Assessment

Identification of Proposed Action

Regulatory Issue Summary (RIS) 2006-10 documents the NRC position on the use of operator manual actions as part of a compliance strategy to meet the requirements of 10 CFR Part 50, Appendix R, Section III.G.2. The NRC requires plants which credit manual actions for 10 CFR Part 50, Appendix R, Section III.G.2 compliance to obtain NRC approval for the manual action using the exemption process in accordance with the requirements of 10 CFR 50.12. In response to RIS 2006-10, the licensee requested this licensing action which would exempt the JAFNPP from the requirements of 10 CFR Part 50, Appendix R, Section III.G.2. The proposed exemption would allow operator manual action, in a safe area of the reactor building, that will prevent the failure of the systems in Fire Area 10 from affecting the ability to achieve and maintain hot shutdown conditions of the reactor as required by Title 10 of the Code of Federal Regulations Part 50, Appendix R, Section III.G.2.

The proposed action is in accordance with the licensee's application dated February 18, 2009, as supplemented by letters dated March 30, November 17, December 11, 2009, and January 19, 2010. Portions of letters dated February 18 and March 30, 2009, contain security related sensitive information, and are withheld from public disclosure in accordance with 10 CFR 2.390. Publicly available versions of the letters dated February 18, and March 30, 2009, are accessible electronically from the Agencywide Documents Access and Management System (ADAMS) with Accession Nos. ML090860980 and ML091320387, respectively. Also, the letters dated November 17, December 11, 2009, and January 19, 2010, are accessible electronically from ADAMS with Accession Nos. ML093270075, ML093520408, and ML100210195, respectively.

The Need for the Proposed Action

The proposed action is needed to allow the licensee an alternate method, not authorized in 10 CFR Part 50, to achieve and maintain hot shutdown conditions in the event of a fire that could disable electrical cables and equipment in Fire Area 10.

The criteria for granting specific exemptions from 10 CFR Part 50 Regulations are specified in 10 CFR 50.12. In accordance with 10 CFR 50.12(a)(1), the NRC is authorized to grant an exemption upon determining that the exemption is authorized by law, will not present an undue risk to the public health and safety, and is consistent with the common defense and security.

Environmental Impacts of the Proposed Action

The NRC has completed its evaluation of the environmental impact of the proposed action. The staff has concluded that such actions would not adversely affect the environment. The proposed action would not result in an increased radiological hazard. There will be no change to the radioactive effluent releases that effect radiation exposures to plant workers and members of the public. The proposed action will be performed inside the reactor building. No changes will be made to plant structures or the site property. Therefore, no changes or different types of radiological impacts are expected as a result of the proposed exemption.

The proposed action does not result in changes to land use or water use, or result in changes to the quality or quantity of non-radiological effluents. No changes to the National Pollution Discharge Elimination System permit are needed. No effects on the aquatic or terrestrial habitat in the vicinity or the plant, or to threatened, endangered, or protected species under the Endangered Species Act, or impacts to essential fish habitat covered by the Magnuson-Steven's Act are expected. There are no impacts to historical and cultural resources. There would be no impact to socioeconomic resources. Therefore, no changes or different types of non-radiological environmental impacts are expected as a result of the proposed exemption.

Accordingly, the NRC concludes that there are no significant environmental impacts associated with the proposed action.

The details of the staff's safety evaluation will be provided in the license exemption that will be issued as part of the letter to the licensee approving the exemption to the regulation.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the Final Environmental Statement for the James A. FitzPatrick Nuclear Power Plant, Docket No. 50-333, dated March 1973 and “Generic Environmental Impact Statement for License Renewal of Nuclear Plants Regarding James A. FitzPatrick Nuclear Power Plant (NUREG-1437, Supplement 31) Final Report.”

Agencies and Persons Consulted

In accordance with its stated policy and the requirements of 10 CFR 51.30(a)(2), on May 4, 2009, the NRC staff consulted with the New York State official, at the New York State Energy Research and Development Authority, regarding the environmental impact of the proposed action. The New York State official provided comments by e-mail dated June 12, 2009 (ADAMS Accession No. ML091690397).

One comment is related to Federal Regulations governing the exemption process. Regulations under 10 CFR 50.12, “Specific exemptions,” do not include comment period and opportunity for a hearing. The public can pursue other avenues, such as petition for changes to the regulatory framework to allow hearings via the rulemaking process (10 CFR 2.802), or a petition for enforcement action (10 CFR 2.206) where stakeholders assert that license holders are not meeting regulatory requirements.

The other comments from the New York State addressed the security issues, the feasibility of the proposed manual action during a fire, and the cumulative effects of this change in conjunction with previous fire protection changes. Based on its review the NRC staff has determined that the comments do not pertain to the environmental impacts associated with the proposed exemption request and therefore, do not alter the staff's finding that there are no significant environmental impacts associated with the proposed exemption request. However, the comments related to the safety aspect of the exemption request will be appropriately considered in the NRC staff's safety evaluation.

Finding of No Significant Impact

On the basis of the environmental assessment, the NRC concludes that the proposed action will not have a significant effect on the quality of the human environment. Accordingly, the NRC has determined not to prepare an environmental impact statement for the proposed action.

For further details with respect to the proposed action, see the licensee's letter dated February 18, 2009, as supplemented by letters dated March 30, November 17, December 11, 2009, and January 19, 2010. Portions of letters dated February 18 and March 30, 2009, contain security related sensitive information, and are withheld from public disclosure in accordance with 10 CFR 2.390. Publicly available versions of the letters dated February 18, and March 30, 2009, are accessible electronically from the Agencywide Documents Access and Management System (ADAMS) with Accession Nos. ML090860980 and ML091320387, respectively. Also, the letters dated November 17, December 11, 2009, and January 19, 2010, are accessible electronically from ADAMS with Accession Nos. ML093270075, ML093520408, and ML100210195, respectively. Publicly available versions of the documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html.

Persons who do not have access to ADAMS or who encounter problems in accessing the documents located in ADAMS should contact the NRC PDR Reference staff by telephone at 1-800-397-4209 or 301-415-4737, or send an e-mail to pdr.resource@nrc.gov.

Dated at Rockville, Maryland, this 4th day of March 2010.
For The Nuclear Regulatory Commission.
Bhalchandra K. Vaidya,
Project Manager, Plant Licensing Branch I-1, Division of Operating Reactor Licensing, Office of Nuclear Reactor Regulation.

[FR Doc. 2010-5248 Filed 3-10-10; 8:45 am]

BILLING CODE 7590-01-P